DEPARTMENT OF ENERGY

Federal Energy Regulatory Commission

[Docket Nos. RT04-2-002; ER04-116-002; ER04-157-005; and EL01-39-002]

ISO New England Inc., et al.; Bangor Hydro-Electric Company, et al.; The Consumers of New England v. New England Power Pool; Notice of Extension of Time

June 28, 2004.

On June 22, 2004, ISO New England Inc. (ISO), and the New England transmission owners (consisting of Bangor Hydro-Electric Company; Central Maine Power Company; New England Power Company; Northeast Utilities Service Company on behalf of its operating companies: The Connecticut Light and Power Company, Western Massachusetts Electric Company, Public Service Company of New Hampshire, Holyoke Power and Electric Company, and Holyoke Water Power Company; NSTAR Electric & Gas Corporation on behalf of its operating affiliates: Boston Edison Company, Commonwealth Electric Company, Canal Electric Company, and Cambridge Electric Light Company; The United Illuminating Company; Vermont Electric Power Company, Inc.; Fitchburg Gas and Electric Light Company; and Unitil Energy Services, Inc. (collectively New England TOs) submitted a partial compliance filing, as directed by the Commission's Order (Order) issued March 24, 2004, in Docket Nos. RT04-2-000, et al., 106 FERC ¶ 61,280 (2004). The June 22, 2004, filing included a request for an extension of time to file the portion of the compliance filing relating to reversionary interests (and revisions to the Participants Agreement otherwise required in the March 24, 2004, Order.)

The ISO and the New England TOs state that an extension of time is necessary to allow the parties to continue ongoing settlement discussions aimed at resolving outstanding issues in these proceedings.

Upon consideration, notice is hereby given that the date for filing the portion of the compliance filing relating to reversionary interests (and revisions to the Participants Agreement required by the March 24, 2004, Order) is granted to and including August 20, 2004, as requested by ISO New England and New England TOs.

Magalie R. Salas,
Secretary.

[FR Doc. E4-1476 Filed 7-6-04; 8:45 am]

BILLING CODE 6717-01-P